DEPARTMENT OF TRANSPORTATION

Pipeline and Hazardous Materials Safety Administration

49 CFR Parts 107, 171, 172, 173, 175, 177, 178 and 180

[Docket No. PHMSA-2006-25496 (HM-189Z)]

RIN: 2137-AE20

Hazardous Materials Regulations: Minor Editorial Corrections and Clarifications

AGENCY: Pipeline and Hazardous Materials Safety Administration (PHMSA), DOT.

ACTION: Final rule.

SUMMARY: This final rule corrects editorial errors, makes minor regulatory changes and, in response to requests for clarification, improves the clarity of certain provisions in the Hazardous Materials Regulations (HMR). The intended effect of this rule is to enhance the accuracy, and reduce misunderstandings of the regulations. The amendments contained in this rule are minor changes and do not impose new requirements.

DATES: Effective date: October 1, 2006.

FOR FURTHER INFORMATION CONTACT: Kevin Leary, Office of Hazardous Materials Standards, (202) 366-8553, Pipeline and Hazardous Materials Safety Administration, U.S. Department of Transportation, 400 Seventh Street, SW., Washington, DC 20590-0001.

SUPPLEMENTARY INFORMATION:

I. Background

PHMSA annually reviews the Hazardous Materials Regulations (HMR; 49 CFR Parts 171-180) to identify errors that may confuse readers. Inaccuracies corrected in this final rule include typographical errors; incorrect references to regulations in the CFR; inaccurate office names and internet addresses; inconsistent use of terminology; and misstatements of certain regulatory requirements. In response to inquiries PHMSA received concerning the clarity of certain requirements specified in the HMR, certain other changes are made to reduce uncertainties.

Because these amendments do not impose new requirements, notice and public procedure are unnecessary. By making these amendments effective without the customary 30-day delay following publication, the changes will appear in the next revision of 49 CFR.

The following is a summary by section of the changes made in this final rule. It does not discuss all minor editorial corrections (e.g., punctuation errors), and certain other minor adjustments to enhance the clarity of the HMR (e.g., corrections to office names and internet addresses).

II. Section-by-Section Review

Part 107

Section 107.105. In paragraph (a), we are removing the term “exemption” and adding the term “special permit” in each place it appears.

Section 107.504. In paragraph (d)(2), we are correcting the reference “107.503(a)(3)” to read “107.503(a)(4)”.

Section 107.616. In paragraph (a), we are revising the internet and mailing addresses to which persons must submit registration statements and payments.

Part 171

Section 171.6. In paragraph (b)(2), the table of OMB control numbers is revised to update report titles, and affected sections for control numbers 2137-0018, 2137-0022, 2137-0034, 2137-0039, 2137-0557 and to add a new entry for OMB control number 2137-0621.

Part 172

Section 172.101 The Hazardous Materials Table (HMT). We are correcting entries in the HMT as follows:

• For the entry “Acetylene, dissolved” UN1001, we are correcting column (7) to add N86. This was inadvertently omitted.

• For the entry “Acetylene, solvent free”, we are correcting Column (2) to italicize the words “Acetylene, solvent free”. We are correcting Column (3), Hazard class or division to place the word “Forbidden” in Roman type. This correction appears as a “Remove/Add” in this rulemaking.

• For the entry “Aerosols, non-flammable, (each not exceeding 1 L capacity)” UN1950, we are correcting column (10A) to read “A”.

• For the entry “Aerosols, poison, each not exceeding 1 L capacity” UN1950, we are correcting Column (2) to italicize the word “poison.” This correction appears as a “Remove/Add” in this rulemaking.

• For the entry “Ammonia solution, relative density less than 0.880 at 15 degrees C in water, with more than 50 percent ammonia” we are correcting Column (2) to italicize the words “relative density less than 0.880 at 15 degrees C in water, with more than 50 percent ammonia” UN3318, we are correcting Column (3) Hazard class or division, to read “2.3”. This correction appears as a “Remove/Add” in this rulemaking.

• For the entry “Ammonia solutions, relative density less than 0.880 at 15 degrees C in water, with more than 35 percent but not more than 50 percent ammonia” UN2073, we are correcting Column (2) to italicize the words “relative density less than 0.880 at 15 degrees C in water, with more than 35 percent but not more than 50 percent ammonia”. This correction appears as a “Remove/Add” in this rulemaking.

• For the entry “Fertilizer ammoniating solution with free ammonia” UN1043, we are correcting Column (2) to italicize the words “with free ammonia”. This correction appears as a “Remove/Add” in this rulemaking.

• For the entry “Hydrogen bromide, anhydrous” UN1048, we are correcting Column (6) to read “2.3, 8”.

• For the entry “hydrogen chloride, anhydrous” UN1050 we are correcting Column (6) to read “2.3, 8”.

• For the entry “Hydrogen iodide, anhydrous” UN2197, we are correcting Column (7) by adding N86. This was inadvertently omitted.

• For the entry “methyl chloride or Refrigerant gas R 40” UN1063, we are correcting Column (2) to italicize the word “or” This correction appears as a “Remove/Add” in this rulemaking.

• For the entry “Organoarsenic compound, liquid, n.o.s.” UN3280, PG I, we are correcting Column (8B) to read “201”.

• For the entry “Organoarsenic compound, liquid, n.o.s.” UN3280, PG II, we are correcting Column (8B) to read “202”.

• For the entry “Organoarsenic compound, liquid, n.o.s.” UN3280, PG III, we are correcting Columns (8B) and (8C) to read “203” and “241” respectively.

• For the entry “Organometallic compound, toxic, liquid, n.o.s.” UN3282, PG I, we are correcting Column (8B) to read “201”.

• For the entry “Organometallic compound, toxic, liquid, n.o.s.” UN3282, PG II, we are correcting Column (8B) to read “202”.

• For the entry “Organometallic compound, toxic, liquid, n.o.s.” UN3282, PG III, we are correcting Columns (8B) and (8C) to read “203” and “241” respectively.

• For the entry “Oxygen difluoride, compressed” UN2190, we are correcting column (10A) to read “D” and we are correcting Column (10B) Other provisions to read “13, 40, 89, 90”.

• For the entry “Radioactive material, uranium hexafluoride, fissile” UN2977, we are correcting Column (1) to remove the symbol “I”.

Section 172.312. In paragraph (c)(5), we are correcting the wording “hermetically-sealed” to read “hermetically sealed”. In paragraph (c)(6), we are correcting the abbreviation “ml” to read “mL” for consistency with its use elsewhere in the HMR.

Part 173

Section 173.13. In paragraph (c), we are correcting the wording “hermetically-sealed” to read “hermetically sealed” each place it appears.

Section 173.133. We are correcting the abbreviation “ml” to read “mL” each place it appears for consistency with its use elsewhere in the HMR.

Section 173.153. In the introductory text to paragraph (b), we are making minor editorial revisions.

Section 173.166. We are removing paragraph (d)(5) because the transition period for transporting approved “Air bag inflators, compressed gas, or air bag modules, compressed gas or Seat-belt pretensioners, compressed gas” UN3353 has expired.

Section 173.301. In the introductory text to paragraph (h), we are correcting “173.301b(f)” to read “173.301b(c)”. In paragraph (i), we are correcting a section citation.

Section 173.301b. In paragraph (a)(4), we are correcting the wording “(a)(6) or (g)(1)” to read “(c)(2)(vi) or (d)(1)”.

Section 173.302a. In paragraph (a)(3), the wording “(75 in³ is corrected to read “(75 in³)”.

Section 173.306. In paragraph (a)(4), we are correcting the wording “hermetically-sealed” to read “hermetically sealed”. In the last sentence in paragraph (b), we are correcting the reference “i” to read “h”. In paragraph (i), we are correcting the abbreviation “ml” to read “mL” for consistency with its use elsewhere in the HMR.

Section 173.309. In paragraph (a)(3)(iv), we are correcting a section reference by revising the wording “29 CFR 1910.157(e)” to read “29 CFR 1910.157” of the Department of Labor, Occupational Safety and Health Administration's requirements for the requalification frequency and retest requirements for non-specification cylinders used as fire extinguishers. This revision is based on a petition for rulemaking (P-1224) submitted by the National Association of Fire Equipment Distributors Inc.

Section 173.334. The first paragraph (a), is reformatted as introductory text.

Section 173.435. In the Table of A 1 and A 2 values for radionuclides, a typographical error in the entry for “Cm-243” is corrected.

Part 175

Section 175.75. In paragraph (c), we are adding a sentence to clarify the requirements of this paragraph do not apply to Class 9 and ORM-D materials. A similar sentence is added in paragraph (e)(5). The beginning of the introductory text to paragraph (e) is revised to add “For cargo aircraft only” to clarify the exceptions provided by this section apply to cargo aircraft and not to passenger aircraft. Finally, the quantity and loading tables are revised and footnotes are added for the benefit of the reader.

Section 175.78. In paragraph (c)(4)(i)(C), we are correcting the reference “(c)(3)(ii)” to read “(c)(4)(ii)”. In paragraph (c)(4)(iv), we are correcting the reference “(c)(3)(iii)” to read “(c)(4)(iii)”.

Section 175.702. In paragraph (a)(2)(ii), we are correcting the limits for the transport indexes. The reference to “131.1 to 140.0” is corrected to read “130.1 to 140.0” and the reference “151.1 to 160.0” is corrected to read “150.1 to 160.0”.

Part 177

Section 177.835. In the introductory text to paragraph (g)(2), we are correcting the reference “173.63” to read “173.62”.

Part 178

Section 178.70. In paragraph (e)(4), we are making a minor editorial correction.

Section 178.71. Paragraph (f) is reserved. In paragraph (l)(2), we are clarifying ISO 11119-2 and 11119-3 composite gas cylinders constructed in accordance with the requirements for underwater use must bear the “UW” mark. In paragraphs (p) and (r) we are correcting several paragraph designations.

Section 178.245. We are removing sections 178.245 through 178.245-7. These sections contain specifications for Specification 51; Steel portable tanks. The manufacture of new portable tanks to this specification has not been authorized since December 31, 2002.

Section 178.270. We are removing sections 178.270 through 178.272-2. These sections contain specifications for IM 101 and IM 102 portable tanks. The manufacture of new IM portable tanks to these specifications has not been authorized since December 31, 2002.

Section 178.338-9. In paragraph (b)(2), we are correcting the reference “178.338-18(b)(9)” to read “178.338-18(c)(10)”.

Part 180

Section 180.207. In paragraph (d), we are revising the introductory text and paragraph (d)(1) containing the requalification requirements for UN cylinders made of high strength seamless steel for clarity.

Section 180.209. In paragraph (a)(1), we are revising Table 1 to specify a seven-year requalification interval is permitted for DOT specification 4B, 4BA, 4BW, and 4E cylinders as currently stated in § 180.209(e).

Section 180.211. In paragraph (d)(3), we are correcting the reference “180.215(d)” to read “180.215(c)”.

Section 180.212. In paragraph (a)(1), we are revising the wording “subchapter” to read “chapter” each place it appears.

Section 180.215. In paragraph (b), we are removing the words “if present” after manufacturer's name or symbol because the manufacturer's name or symbol is required to be marked on cylinders.

Section 180.509. The introductory text to paragraph (l) is reformatted to correct paragraph designations.

III. Regulatory Analyses and Notices

A. Executive Order 12866 and DOT Regulatory Policies and Procedures

This final rule is not considered a significant regulatory action under section 3(f) of Executive Order 12866 and, therefore, was not reviewed by the Office of Management and Budget. This rule is not significant under the Regulatory Policies and Procedures of the Department of Transportation (44 FR 11034). This final rule will not result in increased compliance costs for hazardous materials shippers or carriers; therefore, it is not necessary to prepare a regulatory impact analysis.

B. Executive Order 13132

This final rule has been analyzed in accordance with the principles and criteria in Executive Order 13132 (“Federalism”). This final rule does not adopt any regulation that: (1) Has substantial direct effects on the States, the relationship between the national government and the States, or the distribution of power and responsibilities among the various levels of government; (2) imposes substantial direct compliance costs on State and local governments; or (3) preempts state law. PHMSA is not aware of any State, local, or Indian tribe requirements that would be preempted by correcting editorial errors and making minor regulatory changes. This final rule does not have sufficient federalism impacts to warrant the preparation of a federalism assessment.

C. Executive Order 13175

This final rule has been analyzed in accordance with the principles and criteria contained in Executive Order 13175 (“Consultation and Coordination with Indian Tribal Governments”). Because this final rule does not have tribal implications, does not impose substantial direct compliance costs on Indian tribal governments, and does not preempt tribal law, the funding and consultation requirements of Executive Order 13175 do not apply, and a tribal summary impact statement is not required.

D. Regulatory Flexibility Act, Executive Order 13272, and DOT Procedures and Policies

I certify that this final rule will not have a significant economic impact on a substantial number of small entities. This rule makes minor editorial changes which will not impose any new requirements on persons subject to the HMR; thus, there are no direct or indirect adverse economic impacts for small units of government, businesses or other organizations.

E. Unfunded Mandates Reform Act of 1995

This rule does not impose unfunded mandates under the Unfunded Mandates Reform Act of 1995. It does not result in costs of $120.7 million or more to either State, local, or tribal governments, in the aggregate, or to the private sector, and is the least burdensome alternative that achieves the objective of the rule.

F. Paperwork Reduction Act

There are no new information collection requirements in this final rule.

G. Environmental Impact Analysis

There are no environmental impacts associated with this final rule.

H. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 107

Administrative practice and procedure, Hazardous materials transportation, Packaging and containers, Penalties, Reporting and recordkeeping requirements.

49 CFR Part 171

Exports, Hazardous materials transportation, Hazardous waste, Imports, Reporting and recordkeeping requirements.

49 CFR Part 172

Education, Hazardous materials transportation, Hazardous waste, Labeling, Markings, Packaging and containers, Reporting and recordkeeping requirements.

49 CFR Part 173

Hazardous materials transportation, Packaging and containers, Radioactive materials, Reporting and recordkeeping requirements, Uranium.

49 CFR Part 175

Air carriers, Hazardous materials transportation, Radioactive materials, Reporting and recordkeeping requirements.

49 CFR Part 177

Hazardous materials transportation, Motor carriers, Radioactive materials, Reporting and recordkeeping requirements.

49 CFR Part 178

Hazardous materials transportation, Motor vehicle safety, Packaging and containers, Reporting and recordkeeping requirements.

49 CFR Part 180

Hazardous materials transportation, Motor vehicle safety, Packaging and containers, Reporting and recordkeeping requirements.

In consideration of the foregoing, 49 CFR Chapter I is amended as follows:

PART 107—HAZARDOUS MATERIALS PROGRAM PROCEDURES

1. The authority citation for part 107 continues to read as follows:

Authority: 49 U.S.C. 5101-5128, 44701; Pub. L. 101-410 section 4 (28 U.S.C. 2461 note); Pub. L. 104-121 sections 212-213; Pub. L. 104-134 section 31001; 49 CFR 1.45, 1.53.

2. In § 107.105, the introductory text to paragraph (a) is revised to read as follows:

§ 107.105 Application for special permit.

(a) General. Each application for a special permit or modification of a special permit must be written in English and must—

* * * * *

§ 107.504 [Amended]

3. In § 107.504, in paragraph (d)(2), the phrase “107.503(a)(3)” is revised to read “107.503(a)(4)”.

4. In § 107.616, paragraph (a) is revised to read as follows:

§ 107.616 Payment procedures.

(a) Except as provided in paragraph (d) of this section, each person subject to the requirements of this subpart must mail the registration statement and payment in full to the U.S. Department of Transportation, Hazardous Materials Registration, P.O. Box 70985, Charlotte, NC 28272-0985, or submit the statement and payment electronically through the Department's e-Commerce Internet site. Access to this service is provided at http://hazmat.dot.gov/regs/register/register.htm. A registrant required to file an amended registration statement under § 107.608(c) must mail it to the same address or submit it through the same Internet site.

* * * * *

PART 171—GENERAL INFORMATION, REGULATIONS, AND DEFINITIONS

5. The authority citation for part 171 continues to read as follows:

Authority: 49 U.S.C. 5101-5128, 44701; 49 CFR 1.45 and 1.53; Pub. L. 101-410 section 4 (28 U.S.C. 2461 note); Pub. L. 104-134 section 31001.

6. In § 171.6, in paragraph (b)(2) table, the following changes are made:

a. The entries for Current OMB Control Nos. “2137-0018”, “2137-0022”, “2137-0034,” “2137-0039,” and “2137-0557,” are revised; and

b. An entry for OMB Control No. “2137-0621” is added, in numerical order.

The revisions and addition read as follows:

§ 171.6 Control numbers under the Paperwork Reduction Act.

* * * * *

(b) * * *

(2) Table.

Current OMB control No. | Title | Title 49 CFR part or section where identified and described
* * * * * * *
2137-0018 | Inspection and Testing of Portable Tanks and Intermediate Bulk Containers | §§ 173.24, 173.32, 178.3, 178.255, 178.273, 178.274, 178.703, 178.801, 180.352, 180.605.
2137-0022 | Testing, Inspection, and Marking Requirements for Cylinders | §§ 173.302a, 173.303, 173.304, 173.309, 178.2, 178.3, 178.35, 178.44, 178.45, 178.46, 178.57, 178.59, 178.60, 178.61, 178.68, 180.205, 180.209, 180.211, 180.213, 180.215, Appendix C to Part 180.
2137-0034 | Hazardous Materials Shipping Papers and Emergency Response Information | §§ 172.200, 172.201, 172.202, 172.203, 172.204, 172.505, 172.600, 172.602, 172.604, 172.606, 173.6, 173.7, 173.22, 173.56, 174.24, 174.26, 174.114, 175.30, 175.31, 175.33, 176.24, 176.27, 176.30, 176.36, 176.89, 177.817.
2137-0039 | Hazardous Materials Incidents Reports | §§ 171.15, 171.16, 171.21.
* * * * * * *
2137-0557 | Approvals for Hazardous Materials | §§ 107.402, 107.403, 107.405, 107.502, 107.503, 107.705, 107.713, 107.715, 107.717, 107.803, 107.805, 107.807, 110.30, 172.101, 172.102, Special Provisions 19, 26, 53, 55, 60, 105, 118, 121, 125, 129, 131, 133, 136, B45, B55, B61, B69, B77, B81, N10, N72, 173.2a, 173.4, 173.7, 173.21, 173.22, 173.24, 173.31, 173.38, 173.51, 173.56, 173.58, 173.59, 173.124, 173.128, 173.159, 173.166, 173.171, 173.214, 173.222, 173.224, 173.225, 173.245, 173.301, 173.305, 173.306, 173.314, 173.315, 173.316, 173.318, 173.334, 173.340, 173.411, 173.433, 173.457, 173.471, 173.472, 173.476, 174.50, 174.63, 175.8, 175.85, 175.701, 175.703, 176.168, 176.340, 176.704, 178.3, 178.35, 178.47, 178.53, 178.270-3, 178.270-13, 178.273, 178.274, 178.503, 178.509, 178.605, 178.606, 178.608, 178.801, 178.813, 180.213.
* * * * * * *
2137-0621 | Requirements for United Nations (UN) Cylinders | §§ 173.301, 173.304, 173.304b, 178.69, 178.70, 178.74, 178.75, 180.207, 180.209, 180.212, 180.215, 180.217.

* * * * *

PART 172—HAZARDOUS MATERIALS TABLE, SPECIAL PROVISIONS, HAZARDOUS MATERIALS COMMUNICATIONS, EMERGENCY RESPONSE INFORMATION, AND TRAINING REQUIREMENTS

7. The authority citation for part 172 continues to read as follows:

Authority: 49 U.S.C. 5101-5128, 44701; 49 CFR 1.53.

8. In § 172.101, the Hazardous Materials Table is amended by removing, adding and revising, in the appropriate alphabetical sequence, the following entries to read as follows:

§ 172.101 Hazardous Materials Table
Symbols | Hazardous materials descriptions and proper shipping names | Hazard class or division | Identification numbers | PG | Label codes | Special provisions (§ 172.102) | Packaging (§ 173.***) (8): Exceptions | Packaging (§ 173.***) (8): Non-bulk | Packaging (§ 173.***) (8): Bulk | Quantity limitations (9): Passenger aircraft/rail | Quantity limitations (9): Cargo air-craft only | Vessel stowage (10): Location | Vessel stowage (10): Other
(1) | (2) | (3) | (4) | (5) | (6) | (7) | (8A) | (8B) | (8C) | (9A) | (9B) | (10A) | (10B)
[REMOVE]
* * * * * * *
| Acetylene, solvent free | Forbidden |  |  |  |  |  |  |  |  |  |  |
* * * * * * *
| Aerosols, poison, (each not exceeding 1 L capacity) | 2.2 | UN1950 |  | 2.2, 6.1 |  | 306 | None | None | Forbidden | Forbidden | A | 48, 87, 126
* * * * * * *
I | Ammonia solution, relative density less than 0.880 at 15 degrees C in water, with more than 50 percent ammonia | 2.2 | UN2188 |  | 2.3, 8 | 4, N87, T50 | None | 304 | 314, 315 | Forbidden | Forbidden | D | 40, 57
* * * * * * *
| Ammonia solutions, relative density less than 0.880 at 15 degrees C in water, with more than 35 percent but not more than 50 percent ammonia | 2.2 | UN2073 |  | 2.2 | N87 | 306 | 304 | 314, 315 | Forbidden | 150 kg | E | 40, 57
* * * * * * *
| Fertilizer ammoniating solution with free ammonia | 2.2 | UN1043 |  | 2.2 | N87 | 306 | 304 | 314, 315 | Forbidden | 150 kg | E | 40
* * * * * * *
| Methyl chloride or Refrigerant gas R 40 | 2.1 | UN1063 |  | 2.1 | N86, T50 | 306 | 304 | 314, 315 | 5 kg | 100 kg | D | 40
* * * * * * *
[ADD]
* * * * * * *
| Acetylene, solvent free | Forbidden |  |  |  |  |  |  |  |  |  |  |
* * * * * * *
| Aerosols, poison, (each not exceeding 1 L capacity) | 2.2 | UN1950 |  | 2.2, 6.1 |  | 306 | None | None | Forbidden | Forbidden | A | 48, 87, 126
* * * * * * *
I | Ammonia solution, relative density less than 0.880 at 15 degrees C in water, with more than 50 percent ammonia | 2.3 | UN3318 |  | 2.3, 8 | 4, N87, T50 | None | 304 | 314, 315 | Forbidden | Forbidden | D | 40, 57
* * * * * * *
| Ammonia solutions, relative density less than 0.880 at 15 degrees C in water, with more than 35 percent but not more than 50 percent ammonia | 2.2 | UN2073 |  | 2.2 | N87 | 306 | 304 | 314, 315 | Forbidden | 150 kg | E | 40, 57
* * * * * * *
| Fertilizer ammoniating solution with free ammonia | 2.2 | UN1043 |  | 2.2 | N87 | 306 | 304 | 314, 315 | Forbidden | 150 kg | E | 40
* * * * * * *
| Methyl chloride or Refrigerant gas R 40 | 2.1 | UN1063 |  | 2.1 | N86, T50 | 306 | 304 | 314, 315 | 5 kg | 100 kg | D | 40
* * * * * * *
[REVISE]
* * * * * * *
| Acetylene, dissolved | 2.1 | UN1001 |  | 2.1 | N86, N88 | None | 303 | None | Forbidden | 15 kg | D | 25, 40, 57
* * * * * * *
| Aerosols, non-flammable (each not exceeding 1 L capacity) | 2.2 | UN1950 |  | 2.2 |  | 306 | None | None | 75 kg | 150 kg | A | 48, 87, 126
* * * * * * *
| Hydrogen bromide, anhydrous | 2.3 | UN1048 |  | 2.3, 8 | 3, B14, N86, N89 | None | 304 | 314, 315 | Forbidden | Forbidden | D | 40
* * * * * * *
| Hydrogen chloride, anhydrous | 2.3 | UN1050 |  | 2.3, 8 | 3, N86, N89 | None | 304 | None | Forbidden | Forbidden | D | 40
* * * * * * *
| Hydrogen iodide, anhydrous | 2.3 | UN2197 |  | 2.3 | 3, B14, N86, N89 | None | 304 | 314, 315 | Forbidden | Forbidden | D | 40
* * * * * * *
| Organoarsenic compound, liquid, n.o.s | 6.1 | UN3280 | I | 6.1 | 5, T14, TP2, TP13, TP27 | None | 201 | 242 | 1 L | 30 L | B |
|  |  |  | II | 6.1 | IB2, T11, TP2, TP27 | 153 | 202 | 242 | 5 L | 60 L | B |
|  |  |  | III | 6.1 | IB3, T7, TP1, TP28 | 153 | 203 | 241 | 60 L | 220 L | A |
* * * * * * *
G | Organometallic compound, toxic, liquid, n.o.s. | 6.1 | UN3282 | I | 6.1 | T14, TP2, TP13, TP27 | None | 201 | 242 | 1 L | 30 L | B |
|  |  |  | II | 6.1 | IB2, T11, TP2, TP27 | 153 | 202 | 242 | 5 L | 60 L | B |
|  |  |  | III | 6.1 | IB3, T7, TP1, TP28 | 153 | 203 | 241 | 60 L | 220 L | A
* * * * * * *
| Oxygen difluoride, compressed | 2.3 | UN2190 |  | 2.3, 5.1, 8 | 1, N86 | None | 304 | None | Forbidden | Forbidden | D | 13, 40, 89, 90
* * * * * * *
| Radioactive material, uranium hexafluoride, fissile | 7 | UN2977 |  | 7, 8 |  | 453 | 417, 420 | 417, 420 |  |  | A | 95, 132

* * * * *

§ 172.312 [Amended]

9. In § 172.312, the following changes are made:

a. In paragraph (c)(5), the phrase “hermetically-sealed” is revised to read “hermetically sealed”; and

b. In paragraph (c)(6), the abbreviation “ml” is revised to read “mL”.

PART 173—SHIPPERS—GENERAL REQUIREMENTS FOR SHIPMENTS AND PACKAGINGS

10. The authority citation for part 173 continues to read as follows:

Authority: 49 U.S.C. 5101-5127, 44701; 49 CFR 1.45, 1.53.

§ 173.13 [Amended]

11. In § 173.13, the phrase “hermetically-sealed” is revised to read “hermetically sealed” in paragraphs (c)(1)(ii), (c)(1)(iv) and (c)(2)(ii).

12. In § 173.133, the abbreviation “ml” is revised to read “mL” each place it appears, and paragraph (b)(1)(iv) is revised to read as follows:

§ 173.133 Assignment of packing group and hazard zones for Division 6.1 materials.

* * * * *

(b) * * *

(1) * * *

(iv) Using the calculated values LC50 (mixture) and R, the packing group for the mixture is determined as follows:

Packaging group (hazard zone) | Ratio of volatility and LC50
I (Hazard Zone A) | R ≥ 500 and LC50 (mixture) ≤ 200 mL/m³.
I (Hazard Zone B) | R ≥ 10 and LC50 (mixture) ≤ 1000 mL/m³; and the criteria for Packing Group I, Hazard Zone A are not met.
II | R ≥ 1 and LC50 (mixture) ≤ 3000 mL/m³; and the criteria for Packing Group I, Hazard Zones A and B are not met.
III | R ≥ 1/5 and LC50 (mixture) ≤ 5000 mL/m³; and the criteria for Packing Group I, Hazard Zones A and B and Packing Group II are not met.

* * * * *

13. In § 173.153, the introductory text to paragraph (b) is revised to read as follows:

§ 173.153 Exceptions for Division 6.1 (poisonous materials).

* * * * *

(b) Limited quantities of Division 6.1 materials. The exceptions in this paragraph do not apply to poison-by-inhalation materials. Limited quantities of poisonous materials (Division 6.1) in Packing Group II and III are excepted from the specification packaging requirements of this subchapter when packaged in combination packagings in accordance with the following:

* * * * *

§ 173.166 [Amended]

14. In § 173.166, paragraph (d)(5) is removed.

§ 173.301 [Amended]

15. In § 173.301, the following changes are made

a. In the introductory text to paragraph (h), the phrase “173.301b(f)” is revised to read “173.301b(c)”; and

b. In the introductory text to paragraph (i), the phrase “173.313” is revised to read “173.312”.

§ 173.301b [Amended]

16. In § 173.301b, in paragraph (a)(4), the phrase “(a)(6) or (g)(1)” is revised to read “(c)(2)(vi) or (d)(1)”.

§ 173.302a [Amended]

17. In § 173.302a, in paragraph (a)(3), the phrase “1.23 L (75 in³” is corrected to read “1.23 L (75 in³)”.

§ 173.306 [Amended]

18. In § 173.306, the following changes are made:

a. In paragraph (a)(4)(iii), the phrase “hermetically-sealed” is revised to read “hermetically sealed”;

b. In the last sentence of paragraph (b) introductory text the phrase “paragraph (i) of this section.” is revised to read “paragraph (h) of this section.”; and

c. In paragraph (i), the abbreviation “ml” is revised to read “mL”.

§ 173.309 [Amended]

19. In § 173.309, in paragraph (a)(3)(iv), the phrase “29 CFR 1910.157(e)” is revised to read “29 CFR 1910.157”.

20. In § 173.334, the introductory text is revised to read as follows:

§ 173.334 Organic phosphates mixed with compressed gas.

Hexaethyl tetraphosphate, parathion, tetraethyl dithio pyrophosphate, tetraethyl pyrophosphate, or other Division 6.1 organic phosphates (including a compound or mixture), may be mixed with a non-flammable compressed gas. This mixture may not contain more than 20 percent by weight of organic phosphate and must be packaged in DOT 3A240, 3AA240, 3B240, 4B240, 4BA240, 4BW240 or UN cylinders meeting all of the following requirements:

* * * * *

§ 173.435 [Amended]

21. In § 173.435, in the Table of A1 and A2 values in column seven under the heading “(TBq/g)” for the entry “Cm-243”, the value “1.9 × 10⁻³” is revised to read “1.9”.

PART 175—CARRIAGE BY AIRCRAFT

22. The authority citation for part 175 continues to read as follows:

Authority: 49 U.S.C. 5101-5128, 44701; 49 CFR 1.53.

23. In § 175.75 the following changes are made:

a. A new sentence is added at the end of paragraph (c);

b. The introductory text to paragraph (e) is revised; and

c. Paragraph (e)(5) is revised.

The addition and revisions read as follows:

§ 175.75 Quantity limitations and cargo location.

* * * * *

(c) * * * These requirements do not apply to Class 9 and ORM-D materials.

* * * * *

(e) For cargo aircraft only, the requirements of paragraph (c) and (d) do not apply to the following hazardous materials:

* * * * *

(5) At a minimum, quantity limits and loading instructions in the following quantity and loading tables must be followed to maintain acceptable quantity and loading distances between packages containing hazardous materials. These requirements do not apply to Class 9 or ORM-D materials. The quantity and loading tables are as follows:

Section 175.75 Quantity and Loading Tables

* * * * *

Cargo Only Aircraft
[Packages authorized for transport onboard a passenger aircraft]
In an accessible cargo compartment: If packages are accessible | In an accessible cargo compartment: If packages are inaccessible | In an accessible cargo compartment: If packages are in a Freight Container
No limit | 25 kg per compartment plus an additional 75 kg of Division 2.2 material (see Note 1) | 25 kg per container plus an additional 75 kg of Division 2.2 material (see Note 1).

In an inaccessible cargo compartment: If packages are not in a freight container | In an inaccessible cargo compartment: If packages are in a freight container
25 kg per compartment plus an additional | 25 kg per compartment plus an additional 75 kg of Division 2.2 material (see Note 1).
75 kg of Division 2.2 material | 25 kg per compartment plus an additional 75 kg of Division 2.2 material (see Note 1).

Packages Only Authorized for Transport Aboard a Cargo Aircraft
In an accessible cargo compartment: If packages are accessible | In an accessible cargo compartment: If packages are inaccessible | In an accessible cargo compartment: If packages are in a freight container and are accessible | In an accessible cargo compartment: If packages are in a freight container and are inaccessible
No limit | Forbidden (see Note 1) | No Limit | Forbidden (see Note 1).

In an inaccessible cargo compartment: If packages are not in a freight container | In an inaccessible cargo compartment: If packages are in a freight container
Forbidden (see Note 1) | Forbidden (see Note 1).

Note 1: Except the following materials are not subject to this restriction:

a. Class 3, PG III (unless the hazardous material meets the definition of another hazard class)

b. Class 6 (unless also labeled as a flammable liquid)

c. Class 7 (unless the hazardous material meets the definition of another hazard class)

§ 175.78 [Amended]

24. In § 175.78, the following changes are made:

a. In paragraph (c)(4)(i)(C), the phrase “(c)(3)(ii)” is revised to read “(c)(4)(ii)”; and

b. In the introductory text to paragraph (c)(4)(iv), the phrase “(c)(3)(iii)” is revised to read “(c)(4)(iii)”.

25. In § 175.702, paragraph (a)(2)(ii) is revised to read as follows:

§ 175.702 Separation distance requirements for packages containing Class 7 (radioactive) materials in cargo aircraft.

(a) * * *

(2) * * *

(ii) The minimum separation distances between the radioactive material and any areas occupied by persons that are specified in the following table are maintained:

Transport index or sum of transport indexes of all packages in the aircraft of predesignated area | Minimum separation distances: Centimeters | Minimum separation distances: Inches
50.1 to 60.0 | 465 | 183
60.1 to 70.0 | 505 | 199
70.1 to 80.0 | 545 | 215
80.1 to 90.0 | 580 | 228
90.1 to 100.0 | 610 | 240
100.1 to 110.0 | 645 | 254
110.1 to 120.0 | 670 | 264
120.1 to 130.0 | 700 | 276
130.1 to 140.0 | 730 | 287
140.1 to 150.0 | 755 | 297
150.1 to 160.0 | 780 | 307
160.1 to 170.0 | 805 | 317
170.1 to 180.0 | 830 | 327
180.1 to 190.0 | 855 | 337
190.1 to 200.0 | 875 | 344

* * * * *

PART 177—CARRIAGE BY PUBLIC HIGHWAY

26. The authority citation for part 177 continues to read as follows:

Authority: 49 U.S.C. 5101-5128; 49 CFR 1.53.

§ 177.835 [Amended]

27. In § 177.835, in the introductory text to paragraph (g)(2), the reference to “173.63” is revised to read “173.62”.

PART 178—SPECIFICATIONS FOR PACKAGINGS

28. The authority citation for part 178 continues to read as follows:

Authority: 49 U.S.C. 5101-5128; 49 CFR 1.53.

29. In § 178.70, paragraph (e)(4) is revised to read as follows:

§ 178.70 Approval of UN pressure receptacles.

* * * * *

(e) * * *

(4) Ensure that the various design type approval examinations and tests are performed accurately;

* * * * *

30. In § 178.71, the following changes are made:

a. Paragraph (f) is added and reserved;

b. Paragraphs (l)(2), (p)(1) and (p)(2) are revised; and

c. The first sentence in paragraph (r)(1) is revised.

The revisions read as follows:

§ 178.71 Specifications for UN pressure receptacles.

* * * * *

(l) * * *

(2) ISO 11119-2 and ISO 11119-3 gas cylinders of composite construction manufactured in accordance with the requirements for underwater use must bear the “UW” mark.

* * * * *

(p) * * *

(1) The top grouping contains manufacturing marks and must appear consecutively in the sequence given in paragraphs (o)(11) through (17) of this section.

(2) The middle grouping contains operational marks described in paragraphs (o)(6) through (10) of this section.

* * * * *

(r) * * *

(1) The marking requirements and sequence listed in paragraphs (o)(1) through (17) of this section are required, except the markings in paragraphs (o)(7), (8), (11) and (17) are not applicable. * * *

* * * * *

§§ 178.245, 178.245-1, 178.245-2, 178.245-3, 178.245-4, 178.245-5, 178.245-6, 178.245-7 [Removed]

31. In part 178, §§ 178.245, 178.245-1, 178.245-2, 178.245-3, 178.245-4, 178.245-5, 178.245-6, 178.245-7 are removed.

* * * * *

§§ 178.270, 178.270-1, 178.270-2, 178.270-3, 178.270-4, 178.270-5, 178.270-6, 178.270-7, 178.270-8, 178.270-9, 178.270-10, 178.270-11, 178.271, 178.270-1, 178.272, 178.272-1, 178.272-2 [Removed]

32. In part 178, §§ 178.270, 178.270-1, 178.270-2, 178.270-3, 178.270-4, 178.270-5, 178.270-6, 178.270-7, 178.270-8, 178.270-9, 178.270-10, 178.270-11, 178.271, 178.271-1, 178.272, 178.272-1 and 178.272-2 are removed.

§ 178.338-9 [Amended]

33. In § 178.338-9, in paragraph (b)(2), the reference “178.338-18(b)(9)” is revised to read “178.338-18(c)(10)”.

PART 180—CONTINUING QUALIFICATION AND MAINTENANCE OF PACKAGINGS

34. The authority citation for part 180 continues to read as follows:

Authority: 49 U.S.C. 5101-5128; 49 CFR 1.53.

35. In § 180.207, paragraphs (d) introductory text and (d)(1) are revised to read as follows:

§ 180.207 Requirements for requalification of pressure receptacles.

* * * * *

(d) Requalification procedures. Each UN pressure receptacle that becomes due for requalification must be requalified at the interval prescribed in paragraph (c) of this section and in accordance with the procedures contained in the following standard, as applicable. When a pressure test is performed on a UN pressure receptacle, the test must be a water jacket volumetric expansion test suitable for the determination of the cylinder expansion or a hydraulic proof pressure test. The test equipment must conform to the accuracy requirements in § 180.205(g). Alternative methods (e.g. acoustic emission) or requalification procedures may be performed if prior approval has been obtained in writing from the Associate Administrator.

(1) Seamless steel: Each seamless steel UN pressure receptacle, including MEGC's pressure receptacles, must be requalified in accordance with ISO 6406 (IBR, see § 171.7 of this subchapter). However, UN cylinders with a tensile strength greater than or equal to 950 MPa must be requalified by ultrasonic examination in accordance with ISO 6406.

* * * * *

36. In § 180.209, in paragraph (a)(1), the first and third entries in Table 1 are revised to read as follows:

§ 180.209 Requirements for requalification of specification cylinders.

(a) * * *

(1) * * *

Table 1.—Requalification of Cylinders
Specification under which cylinder was made | Minimum test pressure (psig) ² | Requalification period (years)
* * * * * * *
4B, 4BA, 4BW, 4B240ET | 2 times service pressure, except non-corrosive (see § 180.209(g)) | 5, 7, 10, or 12 (see § 180.209(e), (f), and (j)).
* * * * * * *
DOT 4E | 2 times service pressure, except non-corrosive (see § 180.209(g)) | 5 or 7 (see § 180.209(e)).

§ 180.211 [Amended]

37. In § 180.211(d)(3), the reference “180.215(d)” is revised to read “180.215(c)”.

§ 180.212 [Amended]

38. In § 180.212, the following changes are made:

a. In paragraph (a)(1)(i), the phrase “subchapter” is revised to read “chapter”.

b. In paragraph (a)(1)(ii), the phrase “subchapter” is revised to read “chapter”.

§ 180.215 [Amended]

39. In § 180.215, in the third sentence in paragraph (b), the phrase “manufacturer's name or symbol, if present” is revised to read “manufacturer's name or symbol”.

40. In § 180.509, the introductory text to paragraph (l) is revised and paragraph (l)(1) is added to read as follows:

§ 180.509 Requirements for inspection and test of specification tank cars.

* * * * *

(l) Inspection and test compliance date for tank cars. (1) After July 1, 2000, each tank car with a metal jacket or with a thermal protection system shall have an inspection and test conforming to this section no later than the date the tank car requires a periodic hydrostatic pressure test (i.e., the marked due date on the tank car for the hydrostatic test).

* * * * *

Issued in Washington, DC, on August 31, 2006, under authority delegated in 49 CFR part 1.
Stacey Gerard,
Assistant Administrator/Chief Safety Officer.

[FR Doc. E6-15282 Filed 9-13-06; 8:45 am]

BILLING CODE 4910-60-P